DEPARTMENT OF THE INTERIOR

National Park Service

Notice of Inventory Completion for Native American Human Remains and Associated Funerary Objects in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains was made by the Peabody Museum of Archaeology and Ethnology professional staff in consultation with representatives of the Citizen Potawatomi Nation, Oklahoma; Flandreau Santee Sioux Tribe of South Dakota; Forest County Potawatomi Community of Wisconsin Potawatomi Indians, Wisconsin; Hannahville Indian Community of Wisconsin Potawatomie Indians of Michigan; Ho-Chunk Nation of Wisconsin; Huron Potawatomi, Inc., Michigan; Iowa Tribe of Kansas and Nebraska; Iowa Tribe of Oklahoma; Lower Sioux Indian Community of Minnesota Mdewakanton Sioux Indians of the Lower Sioux Reservation in Minnesota; Match-e-be-nash-she-wish Band of Pottawatomi Indians of Michigan; Omaha Tribe of Nebraska; Otoe-Missouria Tribe of Indians, Oklahoma; Pawnee Nation of Oklahoma; Pokagon Band of Potawatomi Indians of Michigan; Ponca Tribe of Indians of Oklahoma; Ponca Tribe of Nebraska; Prairie Band of Potawatomi Indians, Kansas; Prairie Island Indian Community of Minnesota Mdewakanton Sioux Indians of the Prairie Island Reservation, Minnesota; Sac & Fox Nation of Missouri in Kansas and Nebraska; Sac & Fox Nation, Oklahoma; Sac & Fox Tribe of the Mississippi in Iowa; Santee Sioux Tribe of the Santee Reservation of Nebraska; Sisseton-Wahpeton Sioux Tribe of the Lake Traverse Reservation, South Dakota; Spirit Lake Tribe, North Dakota; Three Affiliated Tribes of the Fort Berthold Reservation, North Dakota; Upper Sioux Indian Community of the Upper Sioux Reservation, Minnesota; Winnebago Tribe of Nebraska; and the Yankton Sioux Tribe of South Dakota.

In 1939, human remains representing one individual were donated to the Peabody Museum of Archaeology and Ethnology by Mrs. Gotty Benthal. No known individual was identified. No associated funerary objects are present.

Correspondence from the donor indicates that these human remains were removed in 1856 from a recent grave of a “Musquoka chief” in Quasqueton, Buchanan County, IA, by John M. Benthal of Quasqueton, IA. Consultation evidence presented by representatives of the Sac & Fox Nation of Missouri in Kansas and Nebraska; the Sac & Fox Nation, Oklahoma; and the Sac & Fox Tribe of the Mississippi in Iowa, and historical evidence indicate that the Musquoka, or Meskwaki, tribe inhabited a large portion of eastern Iowa from the early 1700s to the present day. Based on the historic date of the burial, the specific cultural attribution of the individual provided by the collector, and historical evidence of a strong Meskwaki presence in eastern Iowa in the mid-1800s, the Peabody Museum of Archaeology and Ethnology has determined that these remains are most likely those of a Meskwaki individual. The Meskwaki are represented by the present-day Sac and Fox Nation of Missouri in Kansas, the Sac and Fox Nation, Oklahoma, and the Sac and Fox Tribe of the Mississippi in Iowa.

In 1938, human remains representing one individual were donated to the Peabody Museum of Archaeology and Ethnology by J.H. Spindler of the Brooklyn Museum, Brooklyn, NY. No known individual was identified. No associated funerary objects are present.

Museum records indicate that these remains are from an unknown location in Iowa and are the remains of a “Musquatie Indian.” Consultation evidence presented by representatives of the Sac & Fox Nation of Missouri in Kansas and Nebraska; the Sac & Fox Nation, Oklahoma; and the Sac & Fox Tribe of the Mississippi in Iowa, and historical evidence indicate that the Musquatie, or Meskwaki, tribe inhabited a large portion of eastern Iowa from the early 1700s to the present day. Based on the specific cultural attribution of the individual provided by the collector, and historical evidence of a strong Meskwaki presence in Iowa, the Peabody Museum of Archaeology and Ethnology has determined that these remains are most likely those of a Meskwaki individual. The Meskwaki are represented by the present-day Sac & Fox Nation of Missouri in Kansas and Nebraska; the Sac & Fox Nation, Oklahoma; and the Sac & Fox Tribe of the Mississippi in Iowa.

Based on the above-mentioned information, officials of the Peabody Museum of Archaeology and Ethnology have determined that, pursuant to 43 CFR 10.2 (d)(1), the human remains listed above represent the physical remains of two individuals of Native American ancestry. Officials of the Peabody Museum of Archaeology and Ethnology also have determined that, pursuant to 43 CFR 10.2(e), there is a relationship of shared group identity that can be reasonably traced between these Native American human remains and the Sac & Fox Nation of Missouri in Kansas and Nebraska; the Sac & Fox Nation, Oklahoma; and the Sac & Fox Tribe of the Mississippi in Iowa.

This notice has been sent to officials of the Citizen Potawatomi Nation, Oklahoma; Flandreau Santee Sioux Tribe of South Dakota; Forest County Potawatomi Community of Wisconsin Potawatomi Indians, Wisconsin; Hannahville Indian Community of Wisconsin Potawatomie Indians of Michigan; Ho-Chunk Nation of Wisconsin; Huron Potawatomi, Inc., Michigan; Iowa Tribe of Kansas and Nebraska; Iowa Tribe of Oklahoma; Lower Sioux Indian Community of Minnesota Mdewakanton Sioux Indians of the Lower Sioux Reservation in Minnesota; Match-e-be-nash-she-wish Band of Pottawatomi Indians of Michigan; Omaha Tribe of Nebraska; Otoe-Missouria Tribe of Indians, Oklahoma; Pawnee Nation of Oklahoma; Pokagon Band of Potawatomi Indians of Michigan; Ponca Tribe of Indians of Oklahoma; Ponca Tribe of Nebraska; Prairie Band of Potawatomi Indians, Kansas; Prairie Island Indian Community of Minnesota Mdewakanton Sioux Indians of the Prairie Island Reservation, Minnesota; Sac & Fox Nation of Missouri in Kansas and Nebraska; Sac & Fox Nation, Oklahoma; Sac & Fox Tribe of the Mississippi in Iowa; Santee Sioux Tribe of the Santee Reservation of Nebraska; Sisseton-Wahpeton Sioux Tribe of the Lake Traverse Reservation, South Dakota; Spirit Lake Tribe, North Dakota; Three Affiliated Tribes of the Fort Berthold Reservation, North Dakota; Upper Sioux Indian Community of the Upper Sioux Reservation, Minnesota; Winnebago Tribe of Nebraska; and the Yankton Sioux Tribe of South Dakota. Representatives of any other Indian tribe that believes itself to be culturally affiliated with these human remains should contact Barbara Isaac, Repatriation Coordinator, Peabody Museum of Archaeology and Ethnology, Harvard University, 11 Divinity Avenue, Cambridge, MA 02138, telephone (617) 495-2254, before May 14, 2001. Repatriation of the human remains to the Sac & Fox Nation of Missouri in Kansas and Nebraska; the Sac & Fox Nation, Oklahoma; and the Sac & Fox Tribe of the Mississippi in Iowa may begin after that date if no additional claimants come forward.

Dated: March 27, 2001.
John Robbins,
Assistant Director, Cultural Resources Stewardship and Partnerships.

[FR Doc. 01-8985 Filed 4-11-01; 8:45 am]

BILLING CODE 4310-70-F